DEPARTMENT OF LABOR

Employment and Training Administration

[TA-W-62,381]

3M, Electronic Solutions Division, Including On-Site Leased Workers of Volt, Manpower, Aramark, ISS Facility Services, Smith Micro Technologies, Per-Mar Security, B&B Electric, and Market and Johnson Eau Claire, Wisconsin; Amended Certification Regarding Eligibility to Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 4, 2007, applicable to workers of 3M, Electronic Solutions Division, including on-site leased workers of Volt and Manpower, Eau Claire, Wisconsin. The notice was published in the Federal Register on December 19, 2007 (72 FR 71964).

At the request of a company official, the Department reviewed the certification for workers of the subject firm. The workers are engaged in the production of organic interconnect substrates for electronic components.

New information shows that leased workers of Aramark, ISS Facility Services, Smith Micro Technologies, Per-Mar Security, B&B Electric, and Market and Johnson were employed on-site at the Eau Claire, Wisconsin location of 3M, Electronic Solutions Division. The Department has determined that these workers were sufficiently under the control of 3M, Electronic Solutions Division to be considered leased workers.

Based on these findings, the Department is amending this certification to include leased workers of Aramark, ISS Facility Services, Smith Micro Technologies, Per-Mar Security, B&B Electric, and Market and Johnson working on-site at the Eau Claire, Wisconsin location of the subject firm.

The intent of the Department's certification is to include all workers employed at 3M, Electronic Solutions Division, Eau Claire, Wisconsin who were adversely-impacted by increased customer imports of organic interconnect substrates for electronic components.

The amended notice applicable to TA-W-62,381 is hereby issued as follows:

“All workers of 3M Eau Claire, Electronic Solutions Division, including on-site leased workers of Volt, Manpower, Aramark, ISS Facility Services, Smith Micro Technologies, Per-Mar Security, B&B Electric, and Market and Johnson, Eau Claire, Wisconsin, who became totally or partially separated from employment on or after October 30, 2006, through December 4, 2009, are eligible to apply for adjustment assistance under Section 223 of the Trade Act of 1974, and are also eligible to apply for alternative trade adjustment assistance under Section 246 of the Trade Act of 1974.”

Signed at Washington, DC, this 17th day of January 2008.
Richard Church,
Certifying Officer, Division of Trade Adjustment Assistance.

[FR Doc. E8-1285 Filed 1-24-08; 8:45 am]

BILLING CODE 4510-FN-P